DEPARTMENT OF TRANSPORTATION

National Highway Traffic Safety Administration

[Docket No. NHTSA-2015-0094; Notice 1]

Notice of Receipt of Petition for Decision That Nonconforming Model Year 1996 and 1997 Ferrari F50 Passenger Cars Are Eligible for Importation

AGENCY: National Highway Traffic Safety Administration (NHTSA), Department of Transportation (DOT).

ACTION: Receipt of petition.

SUMMARY: This document announces receipt by the National Highway Traffic Safety Administration (NHTSA) of a petition for a decision that model year (MY) 1996 and 1997 Ferrari F50 passenger cars (PC) that were not originally manufactured to comply with all applicable Federal motor vehicle safety standards (FMVSS) are eligible for importation into the United States. A motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

DATES: The closing date for comments on the petition is November 21, 2016.

ADDRESSES: Comments should refer to the docket and notice numbers above and be submitted by any of the following methods:

• Federal eRulemaking Portal: Go to https://www.regulations.gov. Follow the online instructions for submitting comments.

• Mail: Docket Management Facility: U.S. Department of Transportation, 1200 New Jersey Avenue SE., West Building Ground Floor, Room W12-140, Washington, DC 20590-0001

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at https://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS shall be refused admission into the United States unless NHTSA has decided that the motor vehicle has safety features that comply with or are capable of being altered to comply all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (J.K.), Inc. of Baltimore, Maryland (Registered Importer R-90-006) has petitioned NHTSA to decide whether nonconforming 1996 and 1997 Ferrari F50 PC's are eligible for importation into the United States. J.K. believes these vehicles are capable of being modified to meet all applicable FMVSS. The petitioner seeks to use the U.S.-certified version of the 1995 Ferrari F50 PC for comparative purposes in establishing the import eligibility of the non-U.S. certified 1996 and 1997 models. The petitioner claims there is precedence for this approach in action taken by the agency on a petition involving Mercedes Benz S and SL class vehicles. The agency notes that in a petition involving MY 2001 and 2002 Mercedes-Benz SL class PC's, the petitioner, which was also J.K., asserted that even though there were no substantially similar U.S.-certified vehicles of the same model years, the petitioned vehicles had the same part numbers as those found on the U.S.-certified MY 2003 Mercedes-Benz SL class PC's, and that, as a consequence, the conformance modifications would be the same and utilize the same procedures as those required for conforming a non-U.S. certified version MY 2003 vehicle. See 67 FR 68908 (November 13, 2002). In like manner, J.K. asserts in this instance that the 1995 Ferrari F50 PC uses all of the same safety systems and part numbers to meet the FMVSS as the 1996 and 1997 versions.

J.K. contends that non-U.S. certified 1996 and 1997 Ferrari F50 PC's, as originally manufactured, meet FMVSS in many areas in the same manner as the U.S.-certified 1995 Ferrari F50 PC. The petitioner notes that many of the concerned parts have the same parts numbers as those on the U.S.-certified prior year model. Moreover, it claims that in all areas that have to be modified the parts will be supplied by the OEM manufacturer. J.K. asserts that the modifications that will be needed do not concern the basic structure of the vehicle, but only removable and available parts.

Specifically, the petitioner claims that the non U.S.-certified MY 1996 and 1997 Ferrari F50 PC's, as originally manufactured, conform to: Standard Nos. 102 Transmission Shift Lever Sequence, Starter Interlock, and Transmission Braking Effect, 103 Windshield Defrosting and Defogging Systems, 104 Windshield Wiping and Washing Systems, 105 Hydraulic Brake Systems, 106 Brake Hoses, 109 New Pneumatic and certain Specialty Tires, 113 Hood Latch System, 116 Motor Vehicle Brake Fluids, 124 Accelerator Control Systems, 201 Occupant Protection in Interior Impact, 202 Head Restraints, 203 Impact Protection for the driver from the Steering Control System, 204 Steering Control Rearward Displacement, 205 Glazing Materials, 206 Door Locks and Door Retention Components, 207 Seating Systems, 210 Seat Belt Assembly Anchorages, 212 Windshield Mounting, 216 Roof Crush Resistance, 219 Windshield Zone Intrusion, and 302 Flammability of Interior Materials.

The petitioner also contends that the subject non-U.S certified vehicles are capable of being readily altered to meet the following standards, in the manner indicated:

Standard No. 101 Controls and Displays: Replacement of the instrument cluster with the U.S.-model component and reprogramming the associated software as described in the petition.

Standard No. 108 Lamps, Reflective Devices and Associated Equipment: Installation of U.S.-conforming side marker lamps, headlamps, tail lamps, stop lamps, parking lamps, backup lamps turn signal lamps, and reflex reflectors with U.S.-model components if not already so equipped.

Standard No. 110 Tire Selection and Rims: Installation of the required tire information placard.

Standard No. 111 Rearview Mirrors: Inscription of the required warning statement on the face of the passenger side rearview mirror or replacement of the mirror with a U.S.-model mirror.

Standard No. 114 Theft Protection: Reprogramming the body and instrument ECU to activate the key warning and belt warning systems.

Standard No. 118: Power Operated Window, Partition and Roof Panel Systems: Reprogramming the window control module.

Standard No. 208 Occupant Crash Protection: Replacement of passive restraint system components, including the electrical wiring harness, the passenger's side seat belt, seatbelt tracks and electronic control unit (ECU), with U.S.-model components as described in the petition.

Standard No. 209 Seat Belt Assemblies: Replacement of the seat belts with U.S.-model components.

Standard No. 214 Side Impact Protection: Installation of U.S.-model side impact protection bars in the doors.

Standard No. 301 Fuel System Integrity: Replacement of fuel system components with U.S.-model components as necessary to meet all applicable requirements of the standards.

The petitioner additionally states that a vehicle identification plate must be affixed to the vehicle near the left windshield pillar to meet the requirements of 49 CFR part 565.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2016-25487 Filed 10-20-16; 8:45 am]

BILLING CODE 4910-59-P